FEDERAL COMMUNICATIONS COMMISSION

[FRS 16825]

Sunshine Act Meeting

June 2, 2020.

TIME AND DATE: Open Commission Meeting, Tuesday, June 9, 2020.

The Federal Communications Commission will hold an Open Meeting on Tuesday, June 9, 2020, which is scheduled to commence at 10:30 a.m.

PLACE: Due to the current COVID-19 pandemic and related agency telework and headquarters access policies, this meeting will be in a wholly electronic format and will be open to the public on the internet via live feed from the FCC's web page at www.fcc.gov/live and on the FCC's YouTube channel.

STATUS: Open to the public.

MATTERS TO BE CONSIDERED:

Item No. | Bureau | Subject
1 | WIRELINE COMPETITION & ECONOMICS & ANALYTICS | Title: Rural Digital Opportunity Fund Final Auction Procedures (AU Docket No. 20-34; WC Docket No. 19-126; WC Docket No. 10-90)
|  | Summary: The Commission will consider a Public Notice that would establish procedures for the Phase I auction of the Rural Digital Opportunity Fund (Auction 904), awarding up to $16 billion in support over 10 years for deployment of broadband in unserved areas.
2 | WIRELESS TELE-COMMUNICATION | Title: Modernizing and Expanding Access to the 70/80/90 GHz Bands (WT Docket Nos. 20-133, 10-153, 15-244; RM-11824, RM-11825)
|  | Summary: The Commission will consider a Notice of Proposed Rulemaking and Order that would explore innovative new uses of the 71-76 GHz, 81-86 GHz, 92-94 GHz, and 94.1-95 GHz bands, including potential rule changes to allow for the provision of wireless backhaul for 5G and the deployment of broadband services to aircraft and ships.
3 | WIRELESS TELE-COMMUNICATION | Title: State/Local Approval of Wireless Equipment Modifications (WT Docket No. 19-250; RM-11849)
|  | Summary: The Commission will consider a Declaratory Ruling and Notice of Proposed Rulemaking that would clarify, and seek comment on changes to, the Commission's rules implementing section 6409(a) of the Spectrum Act of 2012 in order to accelerate the deployment of communications infrastructure by facilitating the upgrade of existing sites for 5G networks.
4 | MEDIA | Title: Promoting Broadcast Internet Innovation through ATSC 3.0 (MB Docket No. 20-145)
|  | Summary: The Commission will consider a Declaratory Ruling that would remove regulatory uncertainty concerning use of Broadcast Internet services provided by broadcast TV licensees as an ancillary and supplementary service, and a Notice of Proposed Rulemaking that would seek comment on modifying and clarifying existing rules to promote the deployment of Broadcast Internet services as part of the transition to ATSC 3.0.

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

CONTACT PERSON FOR MORE INFORMATION: Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2020-12633 Filed 6-8-20; 11:15 am]

BILLING CODE 6712-01-P